GOVERNMENT ACCOUNTABILITY OFFICE

GAO Tribal Advisory Council

AGENCY: U.S. Government Accountability Office (GAO).

ACTION: Request for nominations for a GAO Tribal Advisory Council.

SUMMARY: This notice announces the U.S. Government Accountability Office's (GAO) intention to form its first standing Tribal Advisory Council (TAC) expected to be composed of a diverse group of tribal leaders (elected or appointed by their Tribes); an elected or appointed leader of a state-recognized Tribe and/or Native Hawaiian organization; and advisors who are experts on tribal and indigenous issues. The TAC will advise GAO on vital and emerging issues affecting Tribes and Indigenous peoples for the purpose of informing GAO's strategic goals and priorities with respect to the agency's work evaluating federal programs serving Tribes and related topics. GAO is now accepting nominations for TAC appointments that will be effective in August 2022. Nominations should be sent to the email address listed below. Acknowledgement of submission will be provided within a week of submission.

DATES: Nominations should be submitted no later than May 20, 2022, to ensure adequate opportunity for review and consideration of nominees prior to appointment.

ADDRESSES: Submit nomination materials to TAC@gao.gov by May 20, 2022.

FOR FURTHER INFORMATION CONTACT: Paige Gilbreath at (214) 777-5724 or gilbreathp@gao.gov if you do not receive an acknowledgment or need additional information. For general information, contact GAO's Office of Public Affairs, (202) 512-4800.

SUPPLEMENTARY INFORMATION:

Background

The U.S. Government Accountability Office (GAO) is establishing a Tribal Advisory Council (TAC) to advise GAO on vital and emerging issues affecting Tribes and Indigenous peoples and provide input into GAO's strategic goals and priorities with respect to the agency's related work. Among other things, this may include informing GAO of emerging topics of interest or concern, helping identify relevant stakeholders to ensure GAO work includes a diverse range of tribal and indigenous perspectives, and providing advice to GAO on its processes for working with Tribes.

The TAC is expected to be composed of up to 15 members including elected or appointed leaders from federally recognized Tribal entities, as identified in the Federal Register Notice published on January 28, 2022 (87 FR 4636); an elected or appointed leader of a state recognized Tribe and/or Native Hawaiian organization; and technical advisors who may be representatives of national or regional tribal or Native-serving organizations or subject-matter experts on topics relevant to Tribes and Indigenous peoples.

Individuals selected for appointment to the TAC will be invited to serve terms of two or three years. Subject to availability of federal funding, the TAC will meet at least annually, though GAO may periodically ask members to provide information or perspectives on selected issues between TAC meetings. Appointed TAC members will receive per diem and reimbursement for eligible travel expenses incurred for attending TAC meetings.

GAO will endeavor to ensure that the membership of the TAC is balanced in terms of points of view and the demographic, geographic, and other characteristics of Tribes and Native Hawaiian organizations represented. Appointments shall be made without discrimination on the basis of age, ethnicity, gender, sexual orientation, or cultural, religious, or socioeconomic status.

Nomination Information

Nomination materials should be submitted to TAC@gao.gov by May 20, 2022. Required nomination materials vary based on the position the nominee is seeking to fill on the TAC. (1) Nominees who are elected or appointed leaders of federally or state recognized Tribes should obtain a tribal resolution certifying their nomination. This resolution, along with the name of the nominee, their Tribe, and their official role, should be provided to GAO in the nomination package. (2) Leaders of Native Hawaiian organizations should obtain a letter certifying their nomination from their Board of Directors. This letter, along with the name of the nominee and their official role, should be provided to GAO in the nomination package. (3) Technical advisors may be self-nominated or nominated by an individual or organization. Nomination materials should include the name of the nominee, the organization they represent (if applicable), qualifications, and/or a brief description of the nominee's interest in serving on the TAC.

About GAO

The U.S. Government Accountability Office (GAO) is an independent, non-partisan agency that works for Congress. GAO examines how taxpayer dollars are spent and provides Congress and federal agencies with objective, non-partisan, fact-based information to help the government save money and work more efficiently.

To do so, GAO conducts reviews of federal agencies and programs, including those that serve Tribes, their citizens, and descendants. (GAO generally does not audit Tribes' activities.) GAO reviews span a broad range of topics of concern to Tribes, including health care, education, economic development, environmental protection, justice, and infrastructure, among others. GAO's oversight of federal programs that serve Tribes and their citizens aims to help the Congress determine how best to meet the government's longstanding commitments to federally recognized Tribes.

Authority: 31 U.S.C. 711-712.

Gene L. Dodaro,
Comptroller General of the United States.

[FR Doc. 2022-07423 Filed 4-6-22; 8:45 am]

BILLING CODE 1610-02-P